DEPARTMENT OF VETERANS AFFAIRS

38 CFR Part 17

RIN 2900-AR48

Copayment Exemption for Indian Veterans

AGENCY: Department of Veterans Affairs.

ACTION: Final rule correction and correcting amendments.

SUMMARY: On April 4, 2023, the Department of Veterans Affairs (VA) published in the Federal Register a final rule to amend its medical regulations to implement a statute exempting Indian and urban Indian veterans from copayment requirements for the receipt of hospital care or medical services. This correction addresses a technical error in the published final rule and correcting amendments to four sections involved.

DATES: Effective April 11, 2023.

FOR FURTHER INFORMATION CONTACT: Mark Upton, Deputy to the Deputy Under Secretary for Health, Office of the Deputy Under Secretary for Health (10A), 810 Vermont Avenue NW, Washington, DC 20420, 202-461-7459. (This is not a toll-free telephone number.)

SUPPLEMENTARY INFORMATION: VA is correcting technical errors that appeared in a final rule on copayment exemptions for Indian and urban Indian veterans published on April 4, 2023, in the Federal Register (FR) at 88 FR 19862. In the preamble of the final rule, VA is replacing “Medicare” with “Medicaid.”

VA is making correcting amendments to the part 17 authority and provisions constituting collections of information subject to the Paperwork Reduction Act of 1995 (44 U.S.C. 3507). See §§ 17.108, 17.110, 17.111, and 17.4600 of title 38, Code of Federal Regulations (CFR). On April 4, 2023, OMB approved these information collections and assigned OMB control number 2900-0920. This document corrects the references to the OMB control numbers to add such control numbers at the end of §§ 17.108, 17.110, 17.111, and 17.4600.

Correction to the Preamble

In FR Rule Doc. No. 2023-06954, beginning on 19868 in the April 4, 2023 issue of the Federal Register, make the following corrections:

1. On page 19868, column 2, line 18, remove “Medicare” and add “Medicaid” in its place.

List of Subjects in 38 CFR Part 17

Administrative practice and procedure, Claims, Day care, Government programs—veterans, Health care, Health facilities, Health records, Medical devices, Mental health programs, Veterans.

Correcting Amendments

Accordingly, VA corrects 38 CFR part 17 by making the following correcting amendments:

PART 17—MEDICAL

1. The authority citation for part 17 is amended by revising the entries for §§ 17.111 and 17.4600 to read in part as follows:

Authority: 38 U.S.C. 501, and as noted in specific sections.

* * * * *

Section 17.111 is also issued under 38 U.S.C. 101(28), 501, 1701(7), 1703, 1710, 1710B, 1720B, 1720D, 1722A, and 1730A.

* * * * *

Section 17.4600 is also issued under 38 U.S.C. 1725A and 1730A.

* * * * *

§ 17.108 [Amended]

2. Amend § 17.108 in the parenthetical at the end of the section by removing “TBD” and adding “0920” in its place.

§ 17.110 [Amended]

3. Amend § 17.110 in the parenthetical at the end of the section by removing “TBD” and adding “0920” in its place.

§ 17.111 [Amended]

4. Amend § 17.111 in the parenthetical at the end of the section by removing “TBD” and adding “0920” in its place.

§ 17.4600 [Amended]

5. Amend § 17.4600 in the parenthetical at the end of the section by removing “TBD” and adding “0920” in its place.

Consuela Benjamin,
Regulations Development Coordinator, Office of Regulation Policy & Management, Office of General Counsel, Department of Veterans Affairs.

[FR Doc. 2023-07528 Filed 4-10-23; 8:45 am]

BILLING CODE 8320-01-P